DEPARTMENT OF DEFENSE

Office of the Secretary

Defense Science Board

AGENCY: Department of Defense

ACTION: Notice of Advisory Committee Meetings

SUMMARY: The Defense Science Board Task Force on Future Strategic Strike Forces will meet in closed session on February 20-21, 2003; March 19-20, 2003; April 24-25, 2003; May 22-23, 2003; June 18-19, 2003; and July 23-24, 2003, at SAIC, 4001 N. Fairfax Drive, Arlington, VA. The Task Force will assess the future strategic strike force needs of the Department of Defense.

The mission of the Defense Science Board is to advise the Secretary of Defense and the Under Secretary of Defense for Acquisition, Technology & Logistics on scientific and technical matters as they affect the perceived needs of the Department of Defense. At these meetings, the Task Force will: assess the estimated systems life of the current nuclear strike forces; assess the future need for nuclear strike forces and recommend a strategy for the evolution of the current nuclear force capability; identify promising non-nuclear strike systems with such capabilities and consequence that they should be coherently planned and directed with strategic nuclear forces; identify new concepts and approaches, to include hypersonics, for the application of these strategic nuclear and non-nuclear forces that address the future strategic environment.

In accordance with section 10(d) of the Federal Advisory Committee Act, Public Law No. 92-463, as amended (5 U.S.C. App. II), it has been determined that these Defense Science Board Task Force meetings concern matters listed in 5 U.S.C. 552b(c)(1) and that, accordingly, these meetings will be closed to the public.

Dated: February 3, 2003.
Patricia L. Toppings,
Alternate OSD Federal Register Liaison Officer, Department of Defense.

[FR Doc. 03-2978 Filed 2-6-03; 8:45 am]

BILLING CODE 5001-08-M